DEPARTMENT OF JUSTICE

Office of Justice Programs

[OJP (NIJ) Docket No. 1486]

Proposed Chemical, Biological, Radiological, and Nuclear (CBRN) Protective Ensemble Standards for Law Enforcement and CBRN Protective Ensemble Certification Program Requirements

AGENCY: National Institute of Justice.

ACTION: Notice of Proposed Chemical, Biological, Radiological, and Nuclear (CBRN) Protective Ensemble Standards for Law Enforcement and CBRN Protective Ensemble Certification Program Requirements.

SUMMARY: In an effort to obtain comments from interested parties, the U.S. Department of Justice, Office of Justice Programs, National Institute of Justice will make available to the general public two draft documents: (1) A draft standard entitled, “CBRN Protective Ensemble Standard for Law Enforcement” and (2) a draft companion document entitled, “NIJ CBRN Protective Ensemble Certification Program Requirements”.

The opportunity to provide comments on these two documents is open to industry technical representatives, public safety agencies and organizations, research, development and scientific communities, and all other stakeholders and interested parties.

Those individuals wishing to provide comments on the draft documents under consideration are directed to the following Web site: http://www.justnet.org.

DATES: The comment period will be open for 45 days beginning on August 11, 2008 and concluding on September 24, 2008.

FOR FURTHER INFORMATION CONTACT: Casandra Robinson, by telephone at 202-305-2596 [Note: this is not a toll-free telephone number], or by e-mail at casandra.robinson@usdoj.gov.

Dated: August 5, 2008.
David W. Hagy,
Director, National Institute of Justice.

[FR Doc. E8-18417 Filed 8-8-08; 8:45 am]

BILLING CODE 4410-18-P